NATIONAL CREDIT UNION ADMINISTRATION

12 CFR Part 790

RIN 3133-AF04

Office Name Change

AGENCY: National Credit Union Administration (NCUA).

ACTION: Final rule.

SUMMARY: The NCUA Board (Board) is issuing a final rule to update its regulations to reflect the renaming of its “Office of Public and Congressional Affairs.” The office was recently renamed the “Office of External Affairs and Communications.”

DATES: The final rule is effective August 8, 2019.

FOR FURTHER INFORMATION CONTACT: Thomas I. Zells, Staff Attorney, Office of General Counsel, at 1775 Duke Street, Alexandria, VA 22314 or telephone: (703) 548-2478.

SUPPLEMENTARY INFORMATION:

I. Background

II. Regulatory Procedures

I. Background

The Board renamed the “Office of Public and Congressional Affairs” to the “Office of External Affairs and Communications” on July 18, 2019. The new name for the office better encapsulates its scope and duties. This rulemaking amends part 790 of the NCUA's regulations to reflect the office's new name.

II. Regulatory Procedures

A. Final Rule Under the Administrative Procedure Act (APA)

Generally, the APA requires a federal agency to provide the public with notice and an opportunity to comment on agency rulemakings.¹ This rule is exempt from the APA's notice and comment requirement because it only addresses the NCUA's organization and structure.²

¹ 5 U.S.C. 553(b).

² Id. (b)(A).

B. Effective Date

The APA also generally requires publication of a rule in the Federal Register at least 30 days before the effective date of the rule. Agencies can dispense with the 30-day requirement for good cause.³ The NCUA finds good cause to dispense with the 30-day effective date requirement, as this rule is technical rather than substantive. The rule will be effective immediately upon publication.

³ Id. 553(d)(3).

C. Regulatory Flexibility Act

The Regulatory Flexibility Act (RFA) generally requires that, in connection with a final rule, an agency prepare and make available for public comment a final regulatory flexibility analysis that describes the impact of the final rule on small entities. A regulatory flexibility analysis is not required, however, if the agency certifies that the rule will not have a significant economic impact on a substantial number of small entities (defined for purposes of the RFA to include credit unions with assets less than $100 million) ⁴ and publishes its certification and a short, explanatory statement in the Federal Register together with the rule. The final rule makes only technical changes and will not have an impact on small credit unions. Accordingly, the NCUA certifies that this final rule will not have a significant economic impact on a substantial number of small credit unions.

⁴ See 80 FR 57512 (Sept. 24, 2015).

D. Paperwork Reduction Act

This final rule contains no provisions constituting a collection of information under the Paperwork Reduction Act of 1995.⁵

⁵ 44 U.S.C. et seq.

E. Executive Order 13132

Executive Order 13132 encourages independent regulatory agencies to consider the impact of their actions on state and local interests. In adherence to fundamental federalism principles, the NCUA, an independent regulatory agency as defined in 44 U.S.C. 3502(5), voluntarily complies with the executive order. This rulemaking will not have a substantial direct effect on the states, on the connection between the national government and the states, or on the distribution of power and responsibilities among the various levels of government. The NCUA has determined that this final rule does not constitute a policy that has federalism implications for purposes of the executive order.

F. Assessment of Federal Regulations and Policies on Families

The NCUA has determined that this final rule will not affect family well-being within the meaning of Section 654 of the Treasury and General Government Appropriations Act, 1999.⁶

⁶ Public Law 105-277, 112 Stat. 2681 (1998).

List of Subjects in 12 CFR Part 790

Organization and functions (Government agencies).

By the National Credit Union Administration Board on July 30, 2019.
Gerard Poliquin,
Secretary of the Board.

For the reasons discussed above, the Board amends 12 CFR part 790 as follows:

PART 790—DESCRIPTION OF NCUA; REQUESTS FOR AGENCY ACTION

1. The authority citation for part 790 continues to read as follows:

Authority: 12 U.S.C. 1766, 1789, 1795f.

2. Amend § 790.2 by revising paragraphs (b)(6) and (11) to read as follows:

§ 790.2 Central and field office organization.

* * * * *

(b) * * *

(6) Office of the Executive Director. The Executive Director reports to the entire NCUA Board. The Executive Director translates the NCUA Board policy decisions into workable programs, delegates responsibility for these programs to appropriate staff members, and coordinates the activities of the senior executive staff, which includes: The General Counsel; the Regional Directors; and the Office Directors for the Asset Management and Assistance Center, Chief Economist, Chief Financial Officer, Chief Information Officer, Consumer Financial Protection, Continuity and Security Management, Credit Union Resources and Expansion, Examination and Insurance, Human Resources, Minority and Women Inclusion, National Examinations and Supervision, and External Affairs and Communications. Because of the nature of the attorney/client relationship between the Board and General Counsel, the General Counsel may be directed by the Board not to disclose discussions and/or assignments with anyone, including the Executive Director. The Executive Director is otherwise to be privy to all matters within senior executive staff's responsibility. The Office of the Executive Director also supervises the agency's ombudsman. The ombudsman investigates complaints and recommends solutions on regulatory issues that cannot be resolved at the regional level.

* * * * *

(11) Office of External Affairs and Communications. The Director of the Office of External Affairs and Communications is responsible for maintaining NCUA's relationship with the public and the media; for liaison with the U.S. Congress, and with other Executive Branch agencies concerning legislative matters; and for the analysis and development of legislative proposals and public affairs programs.

* * * * *

§ 790.3 [Amended]

3. Amend § 790.3 by removing the words “Office of Public and Congressional Affairs” and adding in their place “Office of External Affairs and Communications”.

[FR Doc. 2019-17009 Filed 8-7-19; 8:45 am]

BILLING CODE 7535-01-P